DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of an instrument of equivalent scientific value, for the purposes for which the instrument shown below is intended to be used, is being manufactured in the United States.

Comments must comply with 15 CFR 301.5(a)(3) and (4) of the regulations and be filed within 20 days with the Statutory Import Programs Staff, U.S. Department of Commerce, Washington, D.C. 20230. Application may be examined between 8:30 A.M. and 5:00 P.M. in Room 4211, U.S. Department of Commerce, 14th Street and Constitution Avenue, N.W., Washington, D.C.

Docket Number: 00-001. Applicant: USDA, Agricultural Research Service, 800 Buchanan Street, Albany, CA 94710. Instrument: Picking and Gridding Q-Bot System. Manufacturer: Genetix Ltd., United Kingdom. Intended Use: The instrument is intended to be used in experiments that will include: isolation, characterization and DNA sequencing of genes from organisms of agronomic importance; gridding of clone collections onto filters for gene isolation and genome characterization; construction of DNA microarrays; rearraying clones and samples into new matrix collections; replication of clones and clone library samples.

Application accepted by Commissioner of Customs: January 6, 2000.

Frank W. Creel,
Director, Statutory Import Programs Staff.

[FR Doc. 00-1657 Filed 1-21-00; 8:45 am]

BILLING CODE 3510-DS-P